DEPARTMENT OF ENERGY

Federal Energy Regulatory Commission

[Project No. 7518-012]

Erie Boulevard Hydropower L.P.; Notice of Dispute Resolution Panel Meeting and Technical Conference

On September 16, 2011, Commission staff, in response to the filing of notice of study dispute by the New York State Department of Environmental Conservation (NYSDEC) on August 29, 2011, convened a single three-person Dispute Resolution Panel (Panel) pursuant to 18 CFR 5.14(d).

The Panel will hold a technical conference at the time and place noted below. The session will address study disputes regarding six separate studies that focus on aquatic resource related issues. The disputes primarily address the Commission's determination on data collection and study methodologies being required for assessing project related effects on aquatic resources. The focus of the technical session is for the disputing agency, applicant, and Commission to provide the Panel with additional information necessary to evaluate the disputed studies. All local, state, and federal agencies, Indian tribes, and other interested parties are invited to attend the meeting as observers. The Panel may also request information or clarification on written submissions as necessary to understand the matters in dispute. The Panel will limit all input that it receives to the specific studies or information in dispute and will focus on the applicability of such studies or information to the study criteria stipulated in 18 CFR 5.9(b). If the number of participants wishing to speak creates time constraints, the Panel may, at their discretion, limit the speaking time for each participant.

If you have any questions, please contact Ryan Hansen at (202) 502-8074.

Technical Conference

Date: Wednesday, October 5, 2011.

Time: 8:30 a.m.-5 p.m. (EDT).

Place: Doubletree Hotel Syracuse, 6301 State Route 298, East Syracuse, New York 13057.

Phone: 315-432-0200.

Dated: September 20, 2011.
Kimberly D. Bose,
Secretary.

[FR Doc. 2011-24767 Filed 9-26-11; 8:45 am]

BILLING CODE 6717-01-P